DEPARTMENT OF TRANSPORTATION

Federal Aviation Administration

Notice of Passenger Facility Charge (PFC) Approvals and Disapprovals

AGENCY: Federal Aviation Administration (FAA), DOT.

ACTION: Monthly Notice of PFC Approvals and Disapprovals. In November 2012, there were four applications approved. Additionally, 16 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: City of La Crosse, Wisconsin.

Application Number: 12-10-C-00-LSE.

Application Type: Impose and use a PFC.

PFC Level: $4.50.

Total PFC Revenue Approved in This Decision: $2,665,657.

Earliest Charge Effective Date: January 1, 2016.

Estimated Charge Expiration Date: January 1, 2023.

Class of Air Carriers Not Required To Collect PFC's: None.

Brief Description of Projects Approved for Collection and Use:

Commercial terminal building upgrades—phase II.

Commercial terminal building upgrades—phase III.

Snow removal equipment.

Emergency radio system upgrade.

PFC administrative fees.

Decision Date: November 1, 2012.

FOR FURTHER INFORMATION CONTACT: Sandy Depottey, Minneapolis Airports District Office, (612) 253-4642.

Public Agency: Charleston County Aviation Authority, Charleston, South Carolina.

Application Number: 12-02-C-00-CHS.

Application Type: Impose and use a PFC.

PFC Level: $4.50.

Total PFC Revenue Approved in This Decision: $10,060,939.

Earliest Charge Effective Date: June 1, 2013.

Estimated Charge Expiration Date: May 1, 2015.

Class of Air Carriers Not Required To Collect PFC's:

Air taxi/commercial operators filing FAA Form 1800-31 and operating at Charleston International Airport (CHS).

Determination: Approved. Based on information contained in the public agency's application, the FAA has determined that the approved class accounts for less than 1 percent of the total annual enplanements at CHS.

Brief Description of Projects Approved for Collection and Use:

Taxiway F improvements (design and construction).

Drainage ditch improvements (design and construction).

Apron C expansion (design and construction).

Terminal handicapped accessibility improvements (design and construction).

PFC implementation and administrative costs.

Brief Description of Project Partially Approved for Collection and Use:

Terminal redevelopment and improvement, project phase 1—terminal apron (design and construct).

Determination: The approved amount was reduced from that requested due to additional Airport Improvement Program funding for the project.

Brief Description of Withdrawn Projects:

Terminal annex facility (design and construction).

Concourse bathroom additions (design).

Date of Withdrawal: August 15, 2012.

Decision Date: November 2, 2012.

FOR FURTHER INFORMATION CONTACT: Robert Rau, Atlanta Airports District Office, (404) 305-7004.

Public Agency: Lawton Metropolitan Airport Authority, Lawton, Oklahoma.

Application Number: 13-07-C-00-LAW.

Application Type: Impose and use a PFC.

PFC Level: $4.50.

Total PFC Revenue Approved in This Decision: $782,263.

Earliest Charge Effective Date: November 1, 2013.

Estimated Charge Expiration Date: July 1, 2016.

Classes of Air Carriers Not Required To Collect PFC's:

(1) Air taxi/commercial operators filing FAA Form 1800-31; and (2) commuter air carriers enplaning non-scheduled passengers filing DOT Form 41, Schedule T-100.

Determination: Approved. Based on information contained in the public agency's application, the FAA has determined that each approved class accounts for less than 1 percent of the total annual enplanements at Lawton-Fort Sill Regional Airport.

Brief Description of Projects Approved for Collection and Use:

Taxiway A pavement analysis and soil test.

Taxiway A pavement rehabilitation.

Runway 17/35 rehabilitation design.

Taxiway/apron/fuel road pavement replacement.

Taxiway/apron/fuel road pavement replacement construction.

Boarding gate area renovation preliminary design.

Boarding gate area final design and construction.

Baggage claim expansion preliminary design.

Baggage claim expansion construction.

Jet bridge construction and installation.

Snow removal equipment building design/construct.

Snow removal equipment procurement—sweeper truck.

Aircraft rescue and firefighting vehicle acquisition.

Wildlife hazard assessment.

PFC application and administration.

Decision Date: November 7, 2012.

FOR FURTHER INFORMATION CONTACT: Jimmy Pierre, Arkansas/Oklahoma Airports Development Office, (817) 222-5637.

Public Agency: Cedar City Regional Airport, Cedar City, Utah.

Application Number: 13-03-C-00-CDC.

Application Type: Impose and use a PFC.

PFC Level: $4.50.

Total PFC Revenue Approved in This Decision: $330,000.

Earliest Charge Effective Date: March 1, 2016.

Estimated Charge Expiration Date: March 1, 2024.

Class of Air Carriers Not Required To Collect PFC's:

Non-scheduled/on-demand carriers filing FAA Form 1800-31.

Determination: Approved. Based on information contained in the public agency's application, the FAA has determined that the approved class accounts for less than 1 percent of the total annual enplanements at Cedar City Regional Airport.

Brief Description of Project Approved for Collection and Use:

Construct aircraft rescue and firefighting building.

Decision Date: November 16, 2012.

FOR FURTHER INFORMATION CONTACT: Jesse Lyman, Denver Airports District Office, (303) 342-1262.

Amendment to PFC Approvals
Amendment No., City, State | Amendment approved date | Original approved net PFC revenue | Amended approved net PFC revenue | Original estimated charge exp. date | Amended estimated charge exp. date
08-11-C-01-YKM, Yakima, WA | 10/31/12 | $783,961 | $457,730 | 04/01/11 | 04/01/11
05-10-C-01-JAC, Jackson, WY | 11/02/12 | 2,277,186 | 2,858,817 | 12/01/09 | 01/01/10
10-09-C-02-ALO, Waterloo, IA | 11/07/12 | 44,750 | 47,047 | 09/01/11 | 12/01/13
06-10-C-05-CVG, Covington, KY | 11/14/12 | 35,499,000 | 21,863,000 | 05/01/15 | 04/01/12
07-11-C-03-CVG, Covington, KY | 11/14/12 | 3,601,000 | 3,561,000 | 08/01/12 | 07/01/12
09-12-C-03-CVG, Covington, KY | 11/14/12 | 22,477,000 | 13,416,000 | 12/01/15 | 01/01/13
11-13-C-01-CVG, Covington, KY | 11/14/12 | 32,958,000 | 20,539,000 | 02/01/18 | 10/01/14
03-05-C-02-TUL, Tulsa, OK | 11/15/12 | 28,228,519 | 30,009,667 | 07/01/10 | 11/01/10
08-06-C-02-TUL, Tulsa, OK | 11/15/12 | 57,177,803 | 57,444,148 | 04/01/19 | 02/01/21
95-01-C-07-MCI, Kansas City, MO | 11/19/12 | 277,485,571 | 280,588,692 | 12/01/10 | 12/01/10
05-05-C-02-MCI, Kansas City, MO | 11/19/12 | 30,984,859 | 31,070,963 | 07/01/14 | 07/01/14
09-06-C-01-MCI, Kansas City, MO | 11/19/12 | 25,579,060 | 27,416,777 | 06/01/15 | 06/01/15
03-05-C-02-MBS, Saginaw, MI | 11/20/12 | 1,378,794 | 400,764 | 04/01/08 | 08/01/07
11-15-C-01-BGM, Binghamton, NY | 11/20/12 | 298,884 | 614,250 | 09/01/17 | 06/01/17
10-10-C-01-PBI, West Palm Beach, FL | 11/21/12 | 11,868,332 | 12,453,559 | 09/01/10 | 12/01/11
11-03-C-01-LCH, Lake Charles, LA | 11/27/12 | 650,000 | 665,490 | 09/01/15 | 01/01/16

Issued in Washington, DC, on September 4, 2013.
Joe Hebert,
Manager, Financial Analysis and Passenger Facility Charge Branch.

[FR Doc. 2013-22562 Filed 9-16-13; 8:45 am]

BILLING CODE 4910-13-P